DEPARTMENT OF THE INTERIOR

National Park Service

[NPS-WASO-NAGPRA-NPS0036306; PPWOCRADN0-PCU00RP14.R50000]

Notice of Inventory Completion: U.S. Department of Justice, Federal Bureau of Investigation, El Paso, TX

AGENCY: National Park Service, Interior.

ACTION: Notice.

SUMMARY: In accordance with the Native American Graves Protection and Repatriation Act (NAGPRA), the U.S. Department of Justice, Federal Bureau of Investigation (FBI El Paso Field Office), has completed an inventory of human remains and associated funerary objects and has determined that there is no cultural affiliation between the human remains and associated funerary objects and any Indian Tribe. The human remains and associated funerary objects were removed from Hudspeth County, TX.

DATES: Disposition of the human remains and associated funerary objects in this notice may occur on or after September 5, 2023.

FOR FURTHER INFORMATION CONTACT: Special Agent (SA) Jeffrey R. Reisinger, FBI El Paso Field Office, 660 S Mesa Hills Drive, Suite 3000, El Paso, TX 79912, telephone (915) 832-5383 (desk), email jrreisinger@fbi.gov.

SUPPLEMENTARY INFORMATION: This notice is published as part of the National Park Service's administrative responsibilities under the Native American Graves Protection and Repatriation Act (NAGPRA). The determinations in this notice are the sole responsibility of the FBI El Paso Field Office. The National Park Service is not responsible for the determinations in this notice. Additional information on the determinations in this notice, including the results of consultation, can be found in the inventory or related records held by the FBI El Paso Field Office.

Description

Human remains representing one individual were removed from Hudspeth County, TX. In August of 2007, following a rainstorm, the human remains were exposed on private land approximately 12 miles northeast of Sierra Blanca. Children who were playing in the area discovered the exposed skeletal remains and the Hudspeth County Sheriff's Office was contacted. That office contacted the Texas Rangers, who initially assessed the scene and then contacted the FBI. FBI El Paso Evidence Response Team (ERT) arrived on scene, took photographs, and collected the human remains and objects. The human remains and funerary objects were placed into the Evidence Control Room before being sent to Quantico, Virginia for analysis. The analysis determined the human remains to be “Ancient remains.” Based upon anthropological and archeological information, more likely than not, these human remains belong to an individual of Native American descent. The human remains and funerary objects have remained in the Evidence Control Room of the FBI Field Office in El Paso since being returned from Quantico, Virginia. The seven associated funerary objects are three pottery sherds and four stone tool fragments.

Aboriginal Land

The human remains and associated funerary objects in this notice were removed from known geographic locations. These locations are the aboriginal lands of one or more Indian Tribes. The following information was used to identify the aboriginal land: a final judgment of the Indian Claims Commission.

Determinations

Pursuant to NAGPRA and its implementing regulations, and after consultation with the appropriate Indian Tribes, the FBI El Paso Field Office has determined that:

• The human remains described in this notice represent the physical remains of one individual of Native American ancestry.

• The seven objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Apache Tribe of Oklahoma; Comanche Nation, Oklahoma; Mescalero Apache Tribe of the Mescalero Reservation, New Mexico; Tonkawa Tribe of Indians of Oklahoma; Wichita and Affiliated Tribes (Wichita, Keechi, Waco, & Tawakonie), Oklahoma; and the Ysleta del Sur Pueblo.

Requests for Disposition

Written requests for disposition of the human remains and associated funerary objects in this notice must be sent to the Responsible Official identified in FOR FURTHER INFORMATION CONTACT. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 5, 2023. If competing requests for disposition are received, the FBI El Paso Field Office must determine the most appropriate requestor prior to disposition. Requests for joint disposition of the human remains and associated funerary objects are considered a single request and not competing requests. The FBI El Paso Field Office is responsible for sending a copy of this notice to the Indian Tribes identified in this notice.

Authority: Native American Graves Protection and Repatriation Act, 25 U.S.C. 3003, and the implementing regulations, 43 CFR 10.9 and 10.11.

Dated: July 26, 2023.
Melanie O'Brien,
Manager, National NAGPRA Program.

[FR Doc. 2023-16485 Filed 8-2-23; 8:45 am]

BILLING CODE 4312-52-P